DEPARTMENT OF TRANSPORTATION

Federal Aviation Administration

14 CFR Part 39

[Docket Number FAA-2007-27739; Directorate Identifier 2006-NM-250-AD]

RIN 2120-AA64

Airworthiness Directives; Airbus Model A330 Airplanes; and Model A340-200 and -300 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

The aim of * * * [Special Federal Aviation Regulation (SFAR) 88] is to require all holders of type certificates * * * to carry out a definition review against explosion hazards.

The unsafe condition is the potential of ignition sources inside fuel tanks, which, in combination with flammable fuel vapors, could result in fuel tank explosions and consequent loss of the airplane. The proposed AD would require actions that are intended to address the unsafe condition described in the MCAI.

DATES: We must receive comments on this proposed AD by April 30, 2007.

ADDRESSES: You may send comments by any of the following methods:

• DOT Docket Web site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket Number FAA-2007-27739; Directorate Identifier 2006-NM-250-AD” at the beginning of your comments. We specifically invite comments on the overall regulatory, economic, environmental, and energy aspects of this proposed AD. We will consider all comments received by the closing date and may amend this proposed AD based on those comments.

We will post all comments we receive, without change, to http://dms.dot.gov, including any personal information you provide. We will also post a report summarizing each substantive verbal contact we receive about this proposed AD.

Discussion

The European Aviation Safety Agency (EASA), which is the Technical Agent for the Member States of the European Community, has issued Airworthiness Directive 2006-0322, dated October 18, 2006 (referred to after this as “the MCAI”), to correct an unsafe condition for the specified products. The MCAI states:

[T]he FAA published SFAR 88 (Special Federal Aviation Regulation 88).

By mail referenced 04/00/02/07/01-L296 of March 4th, 2002 and 04/00/02/07/03-L024 of February 3rd, 2003 the JAA (Joint Aviation Authorities) recommended to the National Aviation Authorities (NAA) the application of a similar regulation.

The aim of this regulation is to require all holders of type certificates for passenger transport aircraft certified after January 1st, 1958 with a capacity of 30 passengers or more, or a payload of 3402 kg or more, to carry out a definition review against explosion hazards.

Consequently, the following measures are rendered mandatory:

• [inspection and] replacement [if necessary] of the white P-clips by blue P-clips which are more fuel resistant [to] remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS (trimmable horizontal stabilizer) Trim Tank,

• Installation of a bonding lead between the bonding tags on the Jettison valve actuator and drive assembly.

You may obtain further information by examining the MCAI in the AD docket.

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation Number 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: Single failures, single failures in combination with a latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this AD are necessary to reduce the potential of ignition sources inside fuel tanks, which, in combination with flammable fuel vapors, could result in fuel tank explosions and consequent loss of the airplane.

Relevant Service Information

Airbus has issued the following service bulletins:

• A330-28-3082, including Appendix 01, Revision 02, dated August 11, 2006.

• A330-28-3092, including Appendix 01, Revision 01, dated December 14, 2005.

• A330-28-3101, Revision 01, dated October 11, 2006.

• A330-55-3016, Revision 1, dated February 12, 1997.

• A340-28-4073, Revision 01, October 9, 1998.

• A340-28-4078, dated March 17, 2000.

• A340-28-4097, including Appendix 01, Revision 02, dated August 16, 2006.

• A340-28-4107, including Appendix 01, Revision 01, dated December 14, 2005.

• A340-28-4118, Revision 01, dated October 11, 2006.

• A340-55-4017, Revision 1, dated February 12, 1997.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 28 products of U.S. registry. We also estimate that it would take about 600 work-hours per product to comply with this proposed AD. The average labor rate is $80 per work-hour. Required parts would cost about $2,718 per product. Where the service information lists required parts costs that are covered under warranty, we have assumed that there will be no charge for these costs. As we do not control warranty coverage for affected parties, some parties may incur costs higher than estimated here. Based on these figures, we estimate the cost of the proposed AD on U.S. operators to be $1,420,104, or $50,718 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket Number FAA-2007-27739; Directorate Identifier 2006-NM-250-AD.

Comments Due Date

(a) We must receive comments by April 30, 2007.

Affected ADs

(b) None.

Applicability

(c) This AD applies to all Airbus Model A330, A340-200, and A340-300 airplanes, all certified models, all serial numbers, certificated in any category.

Subject

(d) Fuel.

Reason

(e) The mandatory continuing airworthiness information (MCAI) states:

[T]he FAA published SFAR 88 (Special Federal Aviation Regulation 88).

By mail referenced 04/00/02/07/01-L296 of March 4th, 2002 and 04/00/02/07/03-L024 of February 3rd, 2003 the JAA (Joint Aviation Authorities) recommended to the National Aviation Authorities (NAA) the application of a similar regulation.

The aim of this regulation is to require all holders of type certificates for passenger transport aircraft certified after January 1st, 1958 with a capacity of 30 passengers or more, or a payload of 3402 kg or more, to carry out a definition review against explosion hazards.

Consequently, the following measures are rendered mandatory:

• [Inspection and ] replacement [if necessary] of the white P-clips by blue P-clips which are more fuel resistant [to] remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS (trimmable horizontal stabilizer) Trim Tank,

• Installation of a bonding lead between the bonding tags on the Jettison valve actuator and drive assembly.

Actions and Compliance

(f) Within 38 months after the effective date of this AD, unless already done, do the actions in paragraphs (f)(1), (f)(2), (f)(3), (f)(4), and (f)(5).

(1) Action number 1, applicable to Model A330, A340-200, and A340-330 aircraft, all certified models, all serial numbers, except for airplanes on which Airbus Modification 47634 has been embodied in production: Perform a detailed visual inspection of the P-clips in the wings and center fuel tanks, and apply the applicable corrective actions, in accordance with the instructions of Airbus Service Bulletin A330-28-3092, Revision 01, dated December 14, 2005; or Airbus Service Bulletin A340-28-4107, Revision 01, dated December 14, 2005.

(2) Action number 2, applicable to Model A330, A340-200, and A340-300 airplanes, all certified models, all serial numbers, except for airplanes on which Airbus Modifications 49135 and 49630 and 51825 and 55118 have been embodied in production or modified in-service in accordance with both Airbus Service Bulletin A330-28-3082, including Appendix 01, and Airbus Service Bulletin A330-28-3101, or both Airbus Service Bulletin A340-28-4097 and Airbus Service Bulletin A340-28-4118: Modify the electrical bonding of the equipment installed in fuel tanks, in accordance with both Airbus Service Bulletin A330-28-3082, Revision 02, dated August 11, 2006, and Airbus Service Bulletin A330-28-3101, Revision 01, dated October 11, 2006; or both Airbus Service Bulletin A340-28-4097, including Appendix 01, Revision 02, dated August 16, 2006, and Airbus Service Bulletin A340-28-4118, Revision 01, dated October 11, 2006; as applicable.

(3) Action number 3, applicable to Model A340-200 and A340-300 airplanes, all certified models, all serial numbers, which have Airbus modification 42612/Airbus Service Bulletin A340-28-4047 or Airbus modification 44002/Airbus Service Bulletin A340-28-4066 or Airbus modification 44005/Airbus Service Bulletin A340-28-4067 embodied in production/in-service (installation of an ACT (Additional Center Tank)), except airplanes modified by Airbus Service Bulletin A340-28-4078 in-service: Modify the electrical bonding in the ACT in accordance with the instructions of Airbus Service Bulletin A340-28-4078, dated March 17, 2000.

(4) Action number 4, applicable to Model A330-300 airplanes, -301, -321, -322, -341, -342 models, all serial numbers except for airplanes on which Airbus Modification 44252 has been embodied in production or modified in-service in accordance with Airbus Service Bulletin A330-55-3016; and Model A340-200 and Model A340-300 airplanes, all certified models, all serial numbers, except for airplanes on which Airbus Modification 44252 has been embodied in production or modified in-service in accordance with Airbus Service Bulletin A340-55-4017: Increase the distance between metallic parts on the THS (trimmable horizontal stabilizer) trim tank in accordance with the instructions of Airbus Service Bulletin A330-55-3016, Revision 1, dated February 12, 1997; or Airbus Service Bulletin A340-55-4017, Revision 1, dated February 12, 1997; as applicable.

(5) Action number 5, applicable to Model A340-200 and A340-300 airplanes, all certified models, all serial numbers, except for airplanes which have Airbus modification 46142 embodied in production or modified in-service in accordance with Airbus Service Bulletin A340-28-4073, Revision 01, dated October 9, 1998: Install a bonding lead between the bonding tags on the Jettison valve actuator and drive assembly in accordance with the instructions of Airbus Service Bulletin A340-28-4073, Revision 01, dated October 9, 1998.

(6) Actions done before the effective date of this AD in accordance with the service bulletins listed in Table 1 of this AD are acceptable for compliance with the corresponding requirements of paragraphs (f)(1), (f)(2), (f)(3), (f)(4), and (f)(5) of this AD, as applicable.

Table 1.—Credit Service Bulletins
Airbus Service Bulletin | Revision level | Date
A330-28-3082 | Original | June 14, 2004.
A330-28-3082 | 01 | March 2, 2005.
A330-28-3101 | Original | June 5, 2006.
A330-55-3016 | Original | August 20, 1996.
A340-28-4073 | Original | May 14, 1998.
A340-28-4097 | Original | June 14, 2004.
A340-28-4097 | 01 | March 3, 2005.
A340-28-4118 | Original | June 5, 2006.
A340-55-4017 | Original | August 20, 1996.

FAA AD Differences

Note: This AD differs from the MCAI and/ or service information as follows: No differences.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tim Backman, Aerospace Engineer; 1601 Lind Ave. SW., Renton, Washington 98057-3356, telephone (425) 227-2797; fax (425) 227-1149. To request a different method of compliance or a different compliance time for this AD, follow the procedures in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2006-0322, dated October 18, 2006, and the service bulletins in Table 2 of this AD, for related information.

Table 2.—Related Service Bulletins
Airbus Service Bulletin | Revision level | Date
A330-28-3082, including Appendix 01 | 02 | August 11, 2006.
A330-28-3092 | 01 | December 14, 2005.
A330-28-3101 | 01 | October 11, 2006.
A330-55-3016 | 1 | February 12, 1997.
A340-28-4073 | 01 | October 9, 1998.
A340-28-4078 | Original | March 17, 2000.
A340-28-4097, including Appendix 01 | 02 | August 16, 2006.
A340-28-4107 | 01 | December 14, 2005.
A340-28-4118 | 01 | October 11, 2006.
A340-55-4017 | 1 | February 12, 1997.

Issued in Renton, Washington, on March 23, 2007.
Ali Bahrami,
Manager, Transport Airplane Directorate, Aircraft Certification Service.

[FR Doc. E7-5908 Filed 3-29-07; 8:45 am]

BILLING CODE 4910-13-P